FEDERAL RETIREMENT THRIFT INVESTMENT BOARD

Meeting of the Employee Thrift Advisory Council

The Employee Thrift Advisory Council will meet Thursday, November 8, 2018 at 1 p.m. (In-Person) at 77 K Street NE, Washington, DC 20002. The agenda for the meeting is:

1. Approval of the minutes of the May 30, 2018 Joint Board/ETAC meeting

2. Thrift Savings Plan Statistics

3. FY18 FRTIB Budget Update

4. Auto Enrollment Update

5. Blended Retirement Update

6. Additional Withdrawals Update

7. Call Center Enhancement

8. L Funds Glide Path

9. New Business

Contact Person For More Information: Kimberly Weaver, Director, Office of External Affairs, (202) 942-1640.

Dated: October 30, 2018.
Dharmesh Vashee,
Deputy General Counsel, Federal Retirement Thrift Investment Board.

[FR Doc. 2018-24001 Filed 11-1-18; 8:45 am]

BILLING CODE P